DEPARTMENT OF ENERGY

Office of Energy Efficiency and Renewable Energy

Request for Information (RFI)

AGENCY: Office of Energy Efficiency and Renewable Energy, Department of Energy.

ACTION: Request for information (RFI).

SUMMARY: The Department of Energy (DOE) is requesting information from stakeholders on questions pertaining to Section 1605—the Buy American provisions—of the American Recovery and Reinvestment Act (“Recovery Act”) of 2009, Public Law 111-5. DOE is seeking information organized into two distinct parts. Part 1 requests technical information from stakeholders seeking to ascertain the availability of manufactured goods produced in the United States that are needed to carry out projects funded by the Office of Energy Efficiency and Renewable Energy. Part 2 requests information on questions pertaining to the application and implementation (programmatic questions) of the Buy American provisions in Recovery Act projects funded by the Office of Energy Efficiency and Renewable Energy.

DATES: Written comments and information are requested on or before 11:59 pm Eastern Time on Thursday, February 18, 2010.

ADDRESSES: Interested persons may submit information by any of the following methods:

• E-mail (preferred method): buyamerican@ee.doe.gov. Include “Response to Buy American RFI” in the subject line of the message.

• Mail: Mr. Benjamin Goldstein, U.S. Department of Energy, Office of Weatherization and Intergovernmental Programs, Mailstop EE-2K, 1000 Independence Avenue, SW., Washington, DC 20585-0121. Please submit one signed paper original.

• Hand Delivery/Courier: Mr. Benjamin Goldstein, U.S. Department of Energy, Office of Weatherization and Intergovernmental Programs, Mailstop EE-2K, 1000 Independence Avenue, SW., Washington, DC 20585-0121. Please submit one signed paper original.

• Instructions: All submissions received must include the agency name (DOE) and identify this RFI.

FOR FURTHER INFORMATION CONTACT: Direct requests for additional information to Mr. Benjamin Goldstein, U.S. Department of Energy, Office of Weatherization and Intergovernmental Programs, Mailstop EE-2K, 1000 Independence Avenue, SW., Washington, DC 20585-0121. E-mail: buyamerican@ee.doe.gov.

SUPPLEMENTARY INFORMATION: The U.S. Department of Energy's Office of Energy Efficiency and Renewable Energy (EERE) received $16.8 billion in Recovery Act appropriations for EERE's programs and initiatives (for more information, please visit http://www1.eere.energy.gov/recovery/). EERE is committed to achieving the goals of the Reco very Act—stimulating the economy and creating or retaining jobs—while simultaneously advancing the EERE mission of strengthening the United States' energy security, environmental quality, and economic vitality. With these objectives in mind, EERE is working to ensure that Recovery Act funds are deployed swiftly and effectively by recipients of financial assistance (“grantees”).

Some grantees have encountered difficulties in procuring certain manufactured goods in compliance with the Buy American provisions. Under the Recovery Act, DOE can make an exception to the Buy American provisions (a “waiver”), based on the criteria outlined in Section 1605(b)(2) of the Recovery Act and in 2 CFR 176.80(a)(1). One such criteria is where manufactured goods are not produced in the United States in sufficient and reasonable quantities and of a satisfactory quality (“nonavailability”).

EERE may consider issuing individual or categorical waivers if there are items that qualify for a determination of nonavailability. However, EERE wishes to ensure that any such determinations are based on a complete record obtained in a thorough, transparent and expedited manner. Toward this end, EERE is requesting grantees and other Recovery Act stakeholders to use Part 1 of this RFI to identify and provide technical specifications for products that may be potential candidates for waivers of Buy American provisions in EERE-funded projects based on the domestic nonavailability criteria.

The products and technical specifications submitted in response to Part 1 of this RFI will be catalogued and disseminated to the domestic manufacturing community in order to ascertain the manufacturing capacity for these products; all as part of the EERE due diligence process before considering issuing any waivers based on nonavailability criteria. EERE will then make the results of our determinations available to grantees and the general public through the Federal Register, the EERE Web site, and additional channels as necessary.

EERE is not at this time specifically requesting information, inquiries or expressions of interest from the manufacturing community. EERE will be executing a separate process to engage the manufacturing community around the products identified in Part 1 of this RFI.

Additionally, the Buy American provisions found in Section 1605 of the Recovery Act have generated numerous questions pertaining to their application and implementation (programmatic questions) in projects around the country. EERE has provided grantees with a number of avenues to seek additional information about the Buy American provisions, and has a Web site that provides responses to some of the most common questions: http://www1.eere.energy.gov/recovery/buy_american_provision.html.

To further assist grantees in understanding and implementing the Buy American provisions, EERE will use responses to Part 2 of this RFI to inform the content of forthcoming Buy American-specific guidance to be issued by EERE and available on the EERE Buy American Web site.

EERE strongly encourages responses from grantees and other Recovery Act stakeholders. These include, but are not limited to: Recipients of EERE Recovery Act financial assistance, state and local officials, contractors, and other interested parties.

Request for Information (RFI) Submission Guidelines

Responses to this RFI must be submitted or postmarked no later than 11:59 p.m. Eastern Time on February 18, 2010.

E-mail responses must be provided as a Microsoft Word (.doc or .docx), or compatible, attachment to the email responding to either Part 1 or Part 2. Responses to both Part 1 and Part 2 must be submitted as two separate Microsoft Word documents (see below).

Respondents are requested to provide the following information at the start of their response to this RFI:

• Associated government/company/institution name (if applicable).

• Contact information to allow for follow-up questions as necessary.

This RFI is seeking responses organized into two distinct Parts:

Part 1

EERE is seeking information on specific iron, steel and manufactured goods that stakeholders have found difficult to procure from domestic manufacturers in compliance with the Recovery Act Buy American provisions. EERE is requesting information on products that are not produced or manufactured in the United States in sufficient and reasonably available commercial quantities of a satisfactory quality in the time frame required. The type of information EERE is seeking is outlined below. EERE requests that stakeholders provide sufficient information to describe the technical specifications of the manufactured goods.

Submission format: Please provide the following information to the absolute best of your abilities. A small photo should be included (pasted) at the bottom of the Part 1 document if one is available. Please use as much space as necessary to adequately communicate the technical specifications for the particular manufactured good in question. If you are submitting information for multiple manufactured goods, please fill out one template for each, and begin each additional submission on a fresh page in the document.

1. Item description (1-2 sentences):

2. Application: (how and where the item is used).

3. Item class: (mechanical, electrical, electro-mechanical, electronic, etc.).

4. Item materials:

5. Item size:

6. Likely manufacturing processes:

7. Is this a Commercially Available Off the Shelf (COTS) item, or a custom component?

8. Is a full set of technical specifications or data available for this item? If so, how can these be accessed?

9. Noteworthy performance requirements:

10. Other technical info, including manufacturing tolerances or testing requirements, if relevant:

11. DOE Program Grant with which this item is affiliated—please be as specific as possible.

12. What are the current major procurement issues being encountered? (e.g., locating a U.S. supplier, cost, quality, delivery time, etc.).

13. Anticipated procurement numbers, in terms of item quantity and/or $ amount:

14. Potential future or related procurement info: (caveat any predictive info as not being guaranteed).

15. Other relevant business info: (anything else worth noting about the item or opportunity not addressed elsewhere on this form).

16. Paste small digital photo below if one is available:

Part 2

DOE is interested in identifying issues related to the Buy American provisions that may not be well understood by grantees. DOE requests information as to the areas of the Buy American provisions for which grantees have questions. It is not the intent of this request to provide responses to the questions submitted. DOE intends only to rely on the questions submitted for the purpose of potentially developing future guidance, should such guidance be necessary.

EERE is seeking information on programmatic questions relating to the applicability and/or implementation of the Buy American provisions of the Recovery Act in general, in specific projects, and/or in relation to individual technologies that may be deployed by recipients of financial assistance under EERE Recovery Act-funded programs. (Examples of programmatic questions might include: What is the definition of a “manufactured good?” Are solar panels installed on public buildings subject to the Buy American provisions? Do goods covered by NAFTA and produced in a NAFTA country satisfy the Buy American requirements? If Recovery Act funds are leveraged alongside private or philanthropic capital to increase the size or scope of a public project, do the Buy American provisions apply to the entire project or just the activities funded by Recovery Act dollars?) The format by which to submit programmatic questions is outlined in the paragraph below.

Submission Format: Please articulate, in as clear and concise language as possible, the exact question(s) you have regarding the applicability and implementation of the Recovery Act Buy American provisions under programs of the DOE EERE office. If your question relates to a specific project with unique circumstances please provide the relevant details. Multiple questions may be submitted, separated as individual paragraphs in the Word document. Please limit submissions to two (2) pages.

A response to this RFI will not be viewed as a binding commitment to develop or pursue the ideas discussed. DOE will not pay for information provided under this RFI. This RFI is not accepting applications for financial assistance or financial incentives. DOE has no obligation to respond to those who submit comments or questions, and/or give any feedback on any decision made based on the comments received. DOE thanks you for your assistance and comments in helping to achieve the goals of the Recovery Act.

Issued in Washington, DC, on January 29, 2010.
Cathy Zoi,
Assistant Secretary, Energy Efficiency and Renewable Energy.

[FR Doc. 2010-2378 Filed 2-3-10; 8:45 am]

BILLING CODE 6450-01-P